DEPARTMENT OF COMMERCE

National Oceanic and Atmospheric Administration

50 CFR Part 660

[Docket No. 100218107-0199-01]

RIN 0648-XX92

Fisheries Off West Coast States; Modifications of the West Coast Commercial and Recreational Salmon Fisheries; Inseason Actions #5, #6, #7, and #8

AGENCY: National Marine Fisheries Service (NMFS), National Oceanic and Atmospheric Administration (NOAA), Commerce.

ACTION: Modification of fishing seasons, gear restrictions, and landing and possession limits; request for comments.

SUMMARY: NOAA Fisheries announces four inseason actions in the ocean salmon fisheries. Inseason actions #5, #6, and #7 modified the commercial fishery in the area from U.S./Canada Border to Cape Falcon, Oregon. Inseason action #8 modified the recreational fishery in the area from U.S./Canada Border to Cape Falcon, Oregon.

DATES: Inseason action #5 was effective on June 18, 2010, and remains in effect until the closing date announced in the 2010 annual management measures or through additional inseason action. Inseason action #6 was effective on June 25, 2010, and remains in effect until the closing date of the 2010 salmon season announced in the 2010 annual management measures or through additional inseason action. Inseason action #7 was effective July 1, 2010, and remains in effect until the closing date announced in the 2010 annual management measures or through additional inseason action. Inseason action #8 was effective July 8, 2010, and remains in effect until the closing date announced in the 2010 annual management measures or through additional inseason action. Comments will be accepted through September 3, 2010.

ADDRESSES: You may submit comments, identified by 0648-XX92, by any one of the following methods:

• Electronic Submissions: Submit all electronic public comments via the Federal eRulemaking Portal http://www.regulations.gov

• Fax: 206-526-6736, Attn: Peggy Busby

• Mail: 7600 Sand Point Way NE, Building 1, Seattle, WA, 98115

Instructions: No comments will be posted for public viewing until after the comment period has closed. All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Peggy Busby, by phone at 206-526-4323.

SUPPLEMENTARY INFORMATION: In the 2010 annual management measures for ocean salmon fisheries (75 FR 24482, May 5, 2010), NMFS announced the commercial and recreational fisheries in the area from the U.S./Canada Border to the U.S./Mexico Border, beginning May 1, 2010.

The Regional Administrator (RA) consulted with representatives of the Pacific Fishery Management Council (Council), Washington Department of Fish and Wildlife, and Oregon Department of Fish and Wildlife on June 15, 2010. The information considered during this consultation related to Chinook salmon catch to date and Chinook salmon catch rates compared to quotas and other management measures established preseason.

Inseason action #5 opened the commercial salmon fishery from the U.S./Canada Border to Cape Falcon, Oregon for the five-day period June 18, 2010 through June 22, 2010, with a landing and possession limit of 75 Chinook salmon per vessel per open period north of Leadbetter Point or 75 Chinook salmon per vessel per open period south of Leadbetter Point. This action was taken to allow access to the full quota of Chinook salmon established preseason and to prevent exceeding the quota. On June 15, 2010, the states recommended this action and the RA concurred; inseason action #5 took effect on June 18, 2010. Modification of quota and/or fishing seasons is authorized by 50 CFR 660.409 (b)(1)(i).

The RA consulted with representatives of the Council, Washington Department of Fish and Wildlife, and Oregon Department of Fish and Wildlife on June 24, 2010. The information considered during this consultation related to catch to date for Chinook salmon, and Chinook salmon catch rates compared to quotas and other management measures established preseason.

Inseason action #6 opened the commercial salmon fishery from the U.S./Canada Border to Cape Falcon, Oregon for the five-day period June 25, 2010 through June 29, 2010, with a landing and possession limit of 25 Chinook salmon per vessel per open period north of Leadbetter Point or 25 Chinook salmon per vessel per open period south of Leadbetter Point. This action was taken to allow access to the full quota of Chinook salmon established preseason and to prevent exceeding the quota. On June 24, 2010, the states recommended this action and the RA concurred; inseason action #6 took effect on June 25, 2010. Modification of quota and/or fishing seasons is authorized by 50 CFR 660.409 (b)(1)(i) .

Inseason action #7 reduced the landing and possession limits for the commercial salmon fishery from the U.S./Canada Border to Cape Falcon, Oregon scheduled to open July 1, 2010. The landing and possession limits of 150 Chinook salmon and 50 coho described in the 2010 annual management measures were reduced to 40 Chinook salmon and 30 coho per vessel per open period north of Leadbetter Point or 40 Chinook salmon and 30 coho per vessel per open period south of Leadbetter Point. This action was taken to manage the Chinook salmon catch rate and allow full access to the coho quota established preseason, extending the availability of quota as much as possible through the season, which is scheduled into September. On June 24, 2010, the states recommended this action and the RA concurred; inseason action #7 took effect on July 1, 2010. Modification of quota and/or fishing seasons is authorized by 50 CFR 660.409 (b)(1)(i) .

The RA consulted with representatives of the Council, Washington Department of Fish and Wildlife, and Oregon Department of Fish and Wildlife on July 6, 2010. The information considered during this consultation related to catch to date for Chinook and coho salmon, and Chinook and coho salmon catch rates compared to quotas and other management measures established preseason.

Inseason action #8 modified the daily bag limit for the recreational salmon fishery from the U.S./Canada Border to Cape Falcon, Oregon. The limit set preseason was two fish per day, only one of which could be a Chinook salmon; inseason action #8 modified the limit to two fish per day, both of which can be Chinook salmon. Based on early catch rate data, there was concern that unless the bag limit was modified, the coho quota would be exhausted before the full Chinook salmon guideline established preseason could be used, which would ultimately require the season to be closed early. On July 6, 2010, the states recommended this action and the RA concurred; inseason action #8 took effect on July 8, 2010. Modification of quota and/or fishing seasons is authorized by 50 CFR 660.409 (b)(1)(i).

All other restrictions and regulations remain in effect as announced in the 2010 Ocean Salmon Fisheries Annual Management Measures and previous inseason actions.

The RA determined that the best available information indicated that the catch and effort data, and projections, supported the above inseason actions recommended by the states. The states manage the fisheries in state waters adjacent to the areas of the U.S. exclusive economic zone in accordance with these Federal actions. As provided by the inseason notice procedures of 50 CFR 660.411, actual notice of the described regulatory actions was given, prior to the date the action was effective, by telephone hotline number 206-526-6667 and 800-662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (75 FR 24482, May 5, 2010), the West Coast Salmon Plan, and regulations implementing the West Coast Salmon Plan 50 CFR 660.409 and 660.411. Prior notice and opportunity for public comment was impracticable because NMFS and the state agencies had insufficient time to provide for prior notice and the opportunity for public comment between the time the fishery catch and effort data were collected to determine the extent of the fisheries, and the time the fishery modifications had to be implemented in order to ensure that fisheries are managed based on the best available scientific information, thus allowing fishers access to the available fish at the time the fish were available while ensuring that quotas are not exceeded. The AA also finds good cause to waive the 30-day delay in effectiveness required under U.S.C. 553(d)(3), as a delay in effectiveness of these actions would allow fishing at levels inconsistent with the goals of the Salmon Fishery Management Plan and the current management measures.

These actions are authorized by 50 CFR 660.409 and 660.411 and are exempt from review under Executive Order 12866.

Authority: 16 U.S.C. 1801 et seq.

Dated: August 13, 2010.
Emily H. Menashes,
Acting Director, Office of Sustainable Fisheries, National Marine Fisheries Service.

[FR Doc. 2010-20623 Filed 8-18-10; 8:45 am]

BILLING CODE 3510-22-S